DEPARTMENT OF TRANSPORTATION

Pipeline and Hazardous Materials Safety Administration

[Docket No: PHMSA-2022-0123]

Pipeline Safety: Notice of Availability of the Tier 1 Nationwide Environmental Assessment for the Natural Gas Distribution Infrastructure Safety and Modernization Grant Program

AGENCY: Pipeline and Hazardous Materials Safety Administration (PHMSA), DOT.

ACTION: Notice.

SUMMARY: PHMSA announces the availability for public review and comment on the Natural Gas Distribution Infrastructure Safety and Modernization (NGDISM) Grant Program Tier 1 Nationwide Environmental Assessment. PHMSA is using a programmatic, tiered environmental analysis to: describe the effects of implementing the NGDISM Grant Program and ensure that implementation of the NGDISM Grant Program at any project site complies with environmental laws and does not result in a significant environmental impact.

DATES: Interested persons are invited to submit comments on or before December 9, 2022. To the extent possible, PHMSA will consider late-filed comments.

ADDRESSES: Comments should reference the Docket number for this notice and may be submitted in the following ways:

E-Gov website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9 a.m. and 5 p.m., ET, Monday through Friday, except Federal holidays.

Instructions: Identify docket number PHMSA-2022-0123 at the beginning of your comments. To avoid duplication, please use only one of these four methods. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov or DOT's Docket Operations Office (see ADDRESSES). If you wish to receive confirmation of receipt of your written comments, please include a self-addressed, stamped postcard with the following statement: “Comments on: PHMSA-2022-0123.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

Privacy Act Statement: In accordance with 5 U.S.C. 553(c), DOT may solicit comments from the public regarding certain general notices. DOT posts these comments, without edit, including any personal information the commenter provides, to www.regulations.gov, as described in the system of records notice (DOT/ALL- 14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to the program office at PHMSAPipelineBILGrant@dot.gov. Any commentary PHMSA receives that is not specifically designated as CBI will be placed in the public docket for this matter.

FOR FURTHER INFORMATION CONTACT: Shakira Mack by email at PHMSAPipelineBILGrant@dot.gov or by phone at 202-366-7652.

SUPPLEMENTARY INFORMATION: On November 15, 2021, the Infrastructure Investment and Jobs Act (IIJA) (Pub. L. 117-58) was enacted. Under the heading “Department of Transportation—Pipeline and Hazardous Materials Safety Administration—Natural Gas Distribution Infrastructure Safety and Modernization Grant Program” in title VIII of division J, the Natural Gas Distribution Infrastructure Safety and Modernization Grant Program was established. The stated purpose of the program is to provide grant opportunities to municipality and community-owned utilities (not including for-profit entities) “to repair, rehabilitate, or replace its natural gas distribution pipeline system or portions thereof or to acquire equipment to (1) reduce incidents and fatalities and (2) avoid economic losses.” The statutory requirements for PHMSA's implementation of the program are mandatory, and PHMSA is expected to implement the program as swiftly as possible to reduce incidents, fatalities, and adverse impacts to the public and the environment, particularly in disadvantaged communities.

Under the Federal Pipeline Safety Laws, 49 U.S.C. 60101 et seq., the Secretary of Transportation (the Secretary) must prescribe minimum safety standards for pipeline transportation and for pipeline facilities. The Secretary has delegated this authority to the PHMSA Administrator (49 CFR 1.97(a)). Therefore, PHMSA is the Federal safety agency responsible for ensuring the safe, reliable, and environmentally sound operations of our Nation's pipeline transportation system. Through the NGDISM Grant Program, PHMSA seeks to (1) reduce the risk profile of existing municipality and community-owned (not including for-profit entities) natural gas distribution pipeline systems, including pipe prone to leakage of methane, (2) create related jobs, (3) provide economic impact and growth, and (4) benefit disadvantaged rural and urban communities.

PHMSA is publishing this notice, in compliance with the National Environmental Policy Act of 1969 (NEPA), to give stakeholders an opportunity to comment on PHMSA's Tier 1 Nationwide Environmental Assessment.

We invite interested persons to review and provide comment on the Tier 1 Nationwide Environmental Assessment which is included in the docket for this notice. The document is available at http://www.regulations.gov under Docket number PHMSA-2022-0123. Please include comment on potential safety, environmental, and any additional impacts that should be considered.

Before issuing the Tier 1 Nationwide Environmental Assessment, PHMSA will evaluate all comments received on or before the comment closing date. Comments received after the closing date will be evaluated if it is possible to do so without incurring additional expense or delay. PHMSA will consider each relevant comment it receives prior to issuing the Tier 1 Nationwide Environmental Assessment as part of the NGDISM Grant Program.

Authority: The Paperwork Reduction Act of 1995; 44 U.S.C. chapter 35, as amended.

Issued in Washington, DC, on November 2, 2022, under authority delegated in 49 CFR 1.97.
Alan K. Mayberry,
Associate Administrator for Pipeline Safety.

[FR Doc. 2022-24378 Filed 11-8-22; 8:45 am]

BILLING CODE 4910-60-P